ENVIRONMENTAL PROTECTION AGENCY

[FRL-9486-8]

Meeting of the Small Communities Advisory Subcommittee

AGENCY: Environmental Protection Agency.

ACTION: Notice.

SUMMARY: The Small Communities Advisory Subcommittee will meet on Thursday, December 1, 2011, at 3 p.m. to 4:30 p.m. (E.T.) at the U.S. EPA East Building, 1201 Constitution Avenue NW., Washington, DC. Topics to be discussed are issues and recommendations to the Administrator regarding environmental issues affecting small communities. This is an open meeting and all interested persons are invited to attend. The Subcommittee will hear comments from the public between 3:30 p.m. and 4 p.m. (E.T.) on Thursday, December 1, 2011. Each individual or organization wishing to address the Committee will be allowed a maximum of five minutes. Also, written comments may be submitted electronically to eargle.frances@epa.gov or contact Frances Eargle the Designated Federal Officer (DFO) at the number listed below to schedule agenda time. Time will be allotted on a first come, first serve basis, and may be extended, if the number of requests for appearances require it.

FOR FURTHER INFORMATION CONTACT: Frances Eargle, DFO for the Local Government Advisory Committee (LGAC), at (202) 564-3115 or email at eargle.frances@epa.gov.

Information on Services for those with Disabilities: For information on access or services for individuals with disabilities, please contact Frances Eargle at (202) 564-3115 or eargle.frances@epa.gov. To request accommodations of a disability, please request it 10 days prior to the meeting, to give EPA as much time as possible to process your request.

Dated: October 20, 2011.
M. Frances Eargle,
Designated Federal Officer, Local Government Advisory Committee.

[FR Doc. 2011-28627 Filed 11-3-11; 8:45 am]

BILLING CODE 6560-50-P